DEPARTMENT OF THE INTERIOR

Bureau of Land Management

[LLOR936000.L14400000.ET0000 FUND. 17XL1109AF. WAOR068905 HAG17-0040]

Notice of Application for Withdrawal and Opportunity for Public Meeting; Washington

AGENCY: Bureau of Land Management, Interior.

ACTION: Notice.

SUMMARY: The United States Department of Agriculture, Forest Service (USFS) has filed an application with the Bureau of Land Management (BLM) requesting that the Secretary of the Interior withdraw, for a period of 20 years, approximately 340,079 acres of National Forest System lands located in the Methow Valley, Okanagan National Forest. The purpose of the withdrawal is to protect the area while Congress considers legislation to permanently withdraw the lands, and to protect the value of ecological and recreational resources of the Methow Valley. Publication of this notice segregates the lands, subject to valid existing rights, for up to 2 years from settlement, sale, location, and entry under the public land laws, location and entry under the United States mining laws, and operation of the mineral and geothermal leasing laws. This notice also gives the public an opportunity to comment on the application for withdrawal.

DATES: Comments must be received by March 30, 2017. The date(s) and location(s) of meetings related to the application for withdrawal will be announced at least 30 days in advance of the meetings through local media, newspapers and the Federal Register.

ADDRESSES: Comments should be sent to the BLM Oregon/Washington State Director, P.O. Box 2965, Portland, OR 97208-2965.

FOR FURTHER INFORMATION CONTACT: Jacob Childers, BLM Oregon/Washington State Office, P.O. Box 2965, Portland, OR 97208-2965 or by phone at 503-808-6225. Persons who use a telecommunications device for the deaf (TDD) may call the Federal Relay Service at 1-800-877-8339 to contact the above individual. The service is available 24 hours a day, 7 days a week. You will receive a reply during normal business hours.

SUPPLEMENTARY INFORMATION: The applicant is the USFS. The application requests the Secretary of the Interior withdraw for a period of 20 years, subject to valid existing rights, the following described National Forest System lands from settlement, sale, location, and entry under the public land laws, location and entry under the United States mining laws, and operation of the mineral and geothermal leasing laws to protect the value of ecological and recreational resources of the Methow Valley and to protect the area while legislation to permanently withdraw the lands is being considered. Recreation accounts for a substantial share of the Methow Valley community's economy while the watershed provides habitat for several threatened and endangered species. Legislation is currently pending in the 114th Congress as S.2991 and identified as the “Methow Headwaters Protection Act of 2016.”

Okanogan National Forest

Willamette Meridian

T. 34 N., R. 20 E.,

Sec. 10, except that portion within the Lake Chelan-Sawtooth Wilderness and south of the ridge dividing Little Bridge Creek and Wolf Creek;

Sec. 11;

Secs. 14 and 15, those portions lying northerly of the ridge dividing Little Bridge Creek and Wolf Creek;

Tract 37;

Protraction block 37;

Protraction blocks 38 and 39, except those portions lying within the Lake Chelan-Sawtooth Wilderness;

Protraction block 43, that portion lying westerly of the ridge beginning in the SW¼ and termination in the NE¼ dividing Wolf Creek and Rader Creek;

Protraction block 44, that portion lying westerly of the ridge in the NW¼.

T. 34 N., R. 21 E.,

Sec. 6, W½, that portion lying north of the ridge in the SW¼, except lots 4, 7, 8, and HES 218A.

T. 35 N., R. 18 E.,

Secs. 10 thru 12, those portions lying southerly of ridge dividing Cedar Creek from Silver Star, Varden, and Early Winters Creeks;

Secs. 13 and 14;

Secs. 15, 16, and 21, those portions lying southerly and easterly of ridge dividing Cedar Creek from Early Winters Creek;

Secs. 22 thru 24;

Secs. 25 thru 27, except those portions within the Lake Chelan-Sawtooth Wilderness;

Sec. 28, except that portion within the Lake Chelan-Sawtooth Wilderness and including that portion lying easterly of ridge dividing Cedar Creek and Early Winters Creek;

Secs. 33, 34, and 36, except those portions within the Lake Chelan-Sawtooth Wilderness.

T. 35 N., R. 19 E.,

Secs. 2 and 3;

Sec. 4, that portion lying easterly of Cedar Creek and southwesterly of ridge in SW¼;

Secs. 5, 6 and 7, those portions lying southerly of ridge dividing Cedar Creek from Pekin and Varden Creeks;

Secs. 8 thru 11;

Sec. 14, except that portion within the Lake Chelan-Sawtooth Wilderness;

Secs. 15 thru 21;

Secs. 22 and 23 and 26 thru 31, except those portions within the Lake Chelan-Sawtooth Wilderness;

Protraction blocks 37 and 38;

Protraction blocks 39 and 40, except those portions within the Lake Chelan-Sawtooth Wilderness.

T. 35 N., R. 20 E.,

Secs. 1 and 2;

Sec. 3, lots 1 through 4, SE¼NW¼, S½NE¼, SE¼;

Sec. 4, N½NW¼, NW¼NE¼;

Sec. 6, except HES 202;

Sec. 7 and 8;

Sec. 9, W½, except N½NW¼ and HES 182; Sec. 10, lot 1, S½NE¼, E½SE¼;

Secs. 11 and 12;

Sec. 13, N½;

Sec. 14, N½, except HES 180;

Sec. 16, lots 3 thru 11, NW¼NW¼ and S½NW¼;

Sec. 17, except Mineral Survey No. 1005, Tip Top Lode;

Sec. 18;

Sec. 19 and 20, except those portions within the Lake Chelan-Sawtooth Wilderness;

Sec. 21 and 22;

Sec. 23, SW¼;

Secs. 26 thru 29 and 35, except those portions within the Lake Chelan-Sawtooth Wilderness.

T. 35 N., R. 22 E.,

Secs. 1 thru 5;

Secs. 8 thru 12;

Secs. 13 and 14, those portions lying northerly of ridge dividing Perarrygin Creek from Bear and Blue Buck Creek;

Secs. 15 thru 17;

Secs. 21 and 22, those portions lying northerly of ridge dividing Perarrygin Creek from Bear Creek; protraction block 37;

Protraction blocks 38 and 39, except HES 211;

Protraction block 40;

Protraction blocks 41 and 43, those portions lying northerly of ridge dividing Perarrygin Creek from Bear Creek.

T. 35 N., R. 23 E.,

Sec. 4, that portion lying northwesterly of the ridge that divides North Fork Boulder Creek and Granite Creek;

Secs. 5 and 6;

Secs. 7 thru 9;

Sec. 18, those portions lying northerly of the ridge that divides Boulder Creek and Blue Buck Creek.

T. 36 N., R. 17 E.,

Secs. 1 thru 3;

Secs. 4, 5, 7 and 8, those portions lying in Okanogan County;

Secs. 9 thru 17;

Secs. 18 and 19, those portions lying in Okanogan County;

Secs. 20 thru 24;

Sec. 25, that portion lying northerly of ridge that divides Cataract Creek and Pine Creek;

Sec. 26, that portion lying in Okanogan County and northerly of ridge that divides Cataract Creek and Pine Creek;

Sec. 27, that portion lying in Okanogan County; Sec. 28;

Sec. 29, 32 thru 34, that portion lying in Okanogan County.

T. 36 N., R. 18 E.,

Secs. 1 thru 12;

Secs. 13 thru 16, those portions lying northerly of ridge dividing Methow River and Early Winters Creek;

Secs. 17 and 18;

Secs. 19 thru 21 and 29 and 30, those portions lying northerly of ridge dividing Methow River and Early Winters Creek.

T. 36 N., R. 19 E.,

Secs. 1 thru 3;

Secs. 7, 11 and 12;

Secs. 17, 18, 20 and 21, those portions lying northerly of ridge dividing Methow River and Early Winters Creek;

Sec. 28, that portion of the E½, lying easterly of ridge and Cedar Creek;

Sec. 33, that portion lying easterly of Cedar Creek;

Secs. 34 and 35;

HES 84, that portion purchased from Robert Wise, Jan. 1973, Forest Service case number OKA68, bk. 243 pg. 129;

HES 89, that portion purchased from R.D. Merrill Company, Sept. 1994, Forest Service case number OKA060806, bk. 125 pg. 2403;

HES 237;

Purchase-Marco Inc., Dec. 1994, bk. 128 pg. 1334;

HES 198, that portion purchased from Trust for Public Land, Aug. 2003, Forest Service case number OKA75TPL, AFN 3065255;

Tracts 37, 39, 40, 42 and 43;

Protraction blocks 37 thru 58.

T. 36 N., R. 20 E.,

Secs. 5 thru 8, Secs. 10 thru 14, Secs. 17 thru 28;

Sec. 29, except HES199 and Mineral Survey 618;

Sec. 30, except E½SW¼, S½SE¼, lot 5, HES 82, 113, 114 and 229 and Mineral Survey 618;

Sec. 31, except N½NW¼NE¼, HES 81, HES 82, HES 199, HES 200, HES 202, HES 203;

Sec. 32, except HES 199, HES 201, HES 203;

Secs. 33 thru 36.

T. 36 N., R. 21 E.,

Secs. 1 thru 11;

Sec. 12, except HES 74;

Sec. 13, except HES 74 and 75;

Sec. 14, except HES 75;

Secs. 15 thru 22;

Secs. 23 and 24, except HES 75;

Secs. 25 and 26, except HES 77

Sec. 27;

Secs. 28 and 29, except HES 80;

Secs. 30 and 31;

Sec. 32, except lots 9 thru 11 and HES 79, HES 80 and HES 210;

Sec. 33, except HES 78, HES 79 and HES 210;

Sec. 34, except N½NE¼, lots 2 and 3;

Sec. 35, except HES 76 and HES 77;

Sec. 36.

T. 36 N., R. 22 E.,

All.

T. 36 N., R. 23 E.,

Secs. 7 thru 10;

Secs. 11 and 14, those portions lying westerly of ridge dividing Boulder Creek from Clark, Pelican and McCay Creeks;

Secs. 15 thru 21;

Secs. 22 and 23, those portions lying westerly of ridge dividing Boulder Creek from McCay and Wilder Creeks;

Secs. 27 and 28, those portions lying westerly of ridge dividing Boulder Creek from Wilder and Jim Creeks;

Secs. 29 thru 32;

Sec. 33, that portion lying westerly of ridge dividing Boulder Creek from Jim and West Fork Salmon Creeks;

Protraction block 38, that portion lying westerly of ridge dividing Boulder Creek from Peak and Clark Creeks, except Mineral Survey 1242;

Protraction block 39, except Mineral Survey 1242;

Protraction blocks 40 thru 42.

T. 37 N., R. 17 E.,

Secs. 12, 13, Secs. 22 thru 24, those portions lying in Okanogan County;

Secs. 25 and 26;

Sec. 27, 33 and 34 those portions lying in Okanogan County;

Secs. 35 and 36.

T. 37 N., R. 18 E.,

Sec. 7, that portion lying in Okanogan County and except that portion within the Lake Chelan-Sawtooth Wilderness;

Sec. 8 and 17, except those portions within the Pasayten Wilderness;

Secs. 18 thru 20;

Secs. 21, 25 thru 28, except those portions within the Pasayten Wilderness;

Secs. 29 thru 36.

T. 37 N., R. 19 E.,

Secs. 19 thru 24, except those portions within the Pasayten Wilderness;

Secs. 25 thru 29;

Secs. 30, except that portion within the Pasayten Wilderness;

Sec. 31, 33 thru 36;

Protraction block 37.

T. 37 N., R. 20 E.,

Secs. 1 thru 3;

Secs. 4, 5, and 8, except those portions within the Pasayten Wilderness;

Secs. 9 thru 16;

Secs. 17 thru 19, except those portions within the Pasayten Wilderness;

Secs. 20 thru 35;

Protraction block 37.

T. 37 N., R. 21 E.,

All.

T. 37 N., R. 22 E.,

All.

T. 37 N., R. 23 E.,

Secs. 2, that portion lying westerly of ridge that divides Twenty Mile Creek from Sinlahekin Creek;

Secs. 3 thru 10;

Sec. 11, that portion lying westerly of ridge that divides Twenty Mile Creek from Sinlahekin Creek;

Sec. 14, that portion lying westerly of ridge that divides Twenty Mile Creek from Lone Frank Creek;

Secs. 15 thru 22;

Secs. 23, 26, and 27, those portions lying westerly of ridge that divides Twenty Mile Creek from Lone Frank and Salmon Creeks;

Secs. 28 thru 33;

Secs. 34 and 35, those portions lying westerly of ridge that divides Boulder Creek from Salmon and Peak Creeks.

T. 38 N., R. 20 E.,

Secs. 9 thru 14, except those portions within the Pasayten Wilderness;

Sec. 15;

Secs. 16 and 21, except those portions within the Pasayten Wilderness;

Secs. 22 thru 27;

Secs. 28 and 33, except those portions within the Pasayten Wilderness;

Secs. 34 thru 36.

T. 38 N., R. 21 E.,

Secs. 7, 13, and Secs. 18 thru 24, except those portions within the Pasayten Wilderness;

Secs. 25 thru 36.

T. 38 N., R. 22 E.,

Secs. 9 thru 11, except those portions within the Pasayten Wilderness;

Secs. 14 and 15;

Secs. 16 thru 18, except those portions within the Pasayten Wilderness;

Secs. 19 thru 23, and Secs. 26 thru 35;

Protraction block 37, except that portion within the Pasayten Wilderness; protraction block 38;

Protraction block 39, except that portion within the Pasayten Wilderness; protraction blocks 40 thru 43.

T. 38 N., R. 23 E.,

Secs. 3, that portion lying westerly of ridge dividing Wildhorse and Dog Creeks from Hilltop Creek;

Secs. 4 thru 9;

Secs. 10, 14 and 15, those portions lying westerly of ridge dividing Do and Thirty Mile Creeks from Hilltop and Crosby Creeks;

Secs. 16 thru 21;

Secs. 22, 23, and 26, those portions lying westerly of ridge dividing Twenty Mile Creek from Crosby and Toasts Coulee Creeks;

Secs. 27 thru 33;

Secs. 34 and 35, those portions lying westerly of ridge dividing Twenty Mile Creek from Toasts Coulee Creek.

T. 39 N., R. 22 E.,

Sec. 35, except that portion within the Pasayten Wilderness;

Protraction block 42, except that portion within the Pasayten Wilderness.

T. 39 N., R. 23 E.,

Secs. 8 and 9, except those portions within the Pasayten Wilderness;

Sec. 15, that portion lying westerly of ridge dividing Queer Creek and Middle Fork Toats Coulee Creek and except that portion within the Pasayten Wilderness;

Secs. 16 thru19, except those portions within the Pasayten Wilderness;

Secs. 20 and 21;

Sec. 22 and 27, that portion lying westerly of ridge dividing Queer Creek and Middle Fork Toats Coulee Creek;

Secs. 28 and 29;

Sec. 30, except that portion within the Pasayten Wilderness;

Secs. 31 thru 33;

Sec. 34, that portion lying westerly of ridge dividing Wildhorse Creek from Hilltop and Middle Fork Toats Coulee Creeks.

The areas described aggregate 340,079 acres of National Forest System lands in Okanogan County, Washington.

Non-Federal mineral lands located within the boundaries of the proposed withdrawal areas will not be affected.

Licenses, permits, cooperative agreements, or discretionary land use authorizations of a temporary nature that will not significantly impact the values to be protected by the withdrawal may be allowed with the approval of the authorized FS officer during the temporary segregation period. FS surface occupancy regulations will not adequately constrain land uses allowed under the General Mining Law (as amended) and the Mineral Leasing Act of 1920 (as amended).

There are no suitable alternative sites for the withdrawal.

No water rights would be needed to fulfill the purpose of the requested withdrawal.

Records related to the application may be examined by contacting Jacob Childers, BLM Oregon/Washington State Office at the address or phone number listed above.

For a period until March 30, 2017, all persons who wish to submit comments, suggestions, or objections in connection with the proposed withdrawal may present their views in writing to the BLM Oregon/Washington State Office, State Director at the address indicated above. Information regarding the withdrawal application will be available for public review at the BLM Oregon State Office, 1220 SW 3rd Avenue, Portland, OR 97204 and at the Okanogan-Wenatchee National Forest, 215 Melody Lane, Wenatchee, WA 98801 during regular business hours, 8:45 a.m. to 4:30 p.m. Monday through Friday, except Federal holidays. Before including your address, phone number, email address, or other personal identifying information in your comment, you should be aware that your entire comment—including your personal identifying information—may be made publicly available at any time. Individuals who submit written comments may request confidentiality by asking us in your comment to withhold your personal identifying information from public review; however, we cannot guarantee that we will be able to do so.

Notice is hereby given that a minimum of at least one public meeting will be held in conjunction with the withdrawal application. A notice of the time and place will be published in the Federal Register and a local newspaper at least 30 days before the scheduled date of any meetings.

For a period until December 31, 2018, subject to valid existing rights, the lands described in this notice will be segregated from settlement, sale, location, and entry under the public land laws, location and entry under the United States mining laws, and operation of the mineral and geothermal leasing laws, unless the application is denied or canceled or the withdrawal is approved prior to that date.

This application will be processed in accordance with the regulations set forth in 43 CFR part 2300.

Lenore Heppler,
Branch Chief, Land, Mineral and Energy Resources.

[FR Doc. 2016-31746 Filed 12-29-16; 8:45 am]

BILLING CODE 3411-15-P